DEPARTMENT OF TRANSPORTATION

Federal Aviation Administration

14 CFR Part 73

[Docket No. FAA-2025-2318; Airspace Docket No. 25-ASW-2]

RIN 2120-AA66

Establishment of Restricted Areas R-6319A&B in the Vicinity of South Padre Island, TX

AGENCY: Federal Aviation Administration (FAA), DOT.

ACTION: Notice of proposed rulemaking (NPRM).

SUMMARY: This action proposes to establish restricted areas R-6319 (A and B) in the vicinity of South Padre Island, TX. The new restricted areas would provide U.S. Customs and Border Protection (CBP) with the ability to deploy a tethered aerostat in support of homeland security and national defense.

DATES: Comments must be received on or before October 9, 2025.

ADDRESSES: Send comments identified by FAA Docket No. FAA-2025-2318 and Airspace Docket No. 25-ASW-2 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted area airspace in the vicinity of South Padre Island, TX.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Background

The United States (U.S.) Customs and Border Protection (CBP) submitted a proposal to the FAA to establish two new restricted areas, R-6319 (A and B), in the vicinity of South Padre Island, TX, in support of homeland security and national defense. CBP has a primary responsibility to detect, interdict, and prevent acts of terrorism and the unlawful movement of people, illicit drugs, and other contraband across the borders of the U.S. in the air and maritime environments.

The agency currently operates aerostats in five restricted areas in the Central Service Area. They provide day/night, all-weather persistent surveillance moored by a tether which is difficult to see and is a hazard to aircraft. Geographical attributes of the South Padre Island area and availability of a secured U.S. Coast Guard station make this location best suited to meet the CBP mission.

The airspace is designed in an upside-down wedding cake configuration. The mooring point would be contained inside R-6319A, a 400-foot radius circle from the surface to 300 feet Above Ground Level (AGL). Above R-6319A would be R-6319B, a 1 nautical mile radius circle from above 300 feet AGL to 6,000 feet Mean Sea Level (MSL). The size and shape of the restricted areas would contain the balloon and tether hazards at maximum wind limits. Time of designation would be continuous with actual usage varying based on weather, maintenance and equipment availability. The airspace would be designated for joint use with release to the controlling agency, Corpus Christi Terminal Radar Approach Control (TRACON), on a case-by-case basis with prior approval.

The Proposal

The FAA is proposing an amendment to 14 CFR part 73 to establish restricted areas R-6319 (A and B) in the vicinity of South Padre Island, TX. The new restricted areas would provide U.S. CBP with the ability to deploy a tethered aerostat in support of homeland security and national defense. The proposed restricted areas are described below.

R-6319A: The proposed restricted area would extend upward from the surface of the ground to 300 feet AGL. The restricted area would be located over South Padre Island, centered at lat. 26°04′19″ N, long. 097°09′49″ W with a radius of 400 feet. The area would be designated as continuous. During periods when the restricted area airspace is not needed by the using agency for its designated purpose, the airspace will be returned to the controlling agency for access by other National Airspace System (NAS) users. The controlling agency for this proposed restricted area would be Corpus Christi TRACON.

R-6319B: The proposed restricted area would extend upward from above 300 feet AGL to 6,000 feet MSL. The restricted area would be located over South Padre Island, centered at lat. 26°04′19″ N, long. 097°09′49″ W, with a radius of one nautical mile. The area would be designated as continuous. During periods when the restricted area airspace is not needed by the using agency for its designated purpose, the airspace will be returned to the controlling agency for access by other NAS users. The controlling agency for this proposed restricted area would be Corpus Christi TRACON.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for 14 CFR part 73 continues to read as follows:

Authority: 49 U.S.C. 106(f), 106(g); 40103, 40113, 40120; E.O. 10854, 24 FR 9565, 3 CFR, 1959-1963 Comp., p. 389.

§ 73.63 Texas (TX) [New]

2. Section 73.63 is amended as follows:

R-6319A South Padre Island, TX [New]

Boundaries. A circular area with a 400-foot radius centered at lat. 26°04′19″ N, long. 097°09′49″ W.

Designated altitudes. Surface to 300 feet AGL.

Time of designation. Continuous.

Controlling agency. FAA, Corpus Christi TRACON.

Using agency. U.S. Customs and Border Protection Air & Marine Operations Center, Riverside, CA.

R-6319B South Padre Island, TX [New]

Boundaries. 1 nautical mile radius centered at lat. 26°04′19″ N, long. 097°09′49″ W.

Designated altitudes. Above 300 feet AGL to 6,000 feet MSL.

Time of designation. Continuous.

Controlling agency. FAA, Corpus Christi TRACON.

Using agency. U.S. Customs and Border Protection Air & Marine Operations Center, Riverside, CA.

* * * * *

Issued in Washington, DC, on August 21, 2025.
Brian Konie,
Acting Manager, Rules and Regulations Group.

[FR Doc. 2025-16236 Filed 8-22-25; 8:45 am]

BILLING CODE 4910-13-P